DEPARTMENT OF ENERGY

Idaho Operations Office, Trespassing On DOE Property: Idaho Operations Office Properties

AGENCY: Idaho Operations Office, Department of Energy.

ACTION: Notice of designation of Idaho operations office properties and facilities as off-limits areas.

SUMMARY: The Department of Energy (DOE) hereby amends and adds to the previously published site descriptions of various DOE and contractor occupied buildings as Off-Limits Areas. The locations are in Idaho Falls, Idaho, and various DOE vehicle/bus parking lots, which are located in Idaho Falls, Blackfoot, Mackay, Rexburg, Rigby, Highway 20 and Shelley New Sweden Road, and Pocatello. In accordance with 10 CFR Part 860, it is a federal crime under 42 U.S.C. 2278a for unauthorized persons to enter into or upon these Idaho Operations Office properties and facilities. If unauthorized entry into or upon these properties is into an area enclosed by a fence, wall, floor, roof or other such standard barrier, conviction for such unauthorized entry may result in a fine of not more than $100,000 or imprisonment for not more than one year or both. If unauthorized entry into or upon the properties is into an area not enclosed by a fence, wall, floor, roof, or other such standard barrier, conviction for such unauthorized entry may result in a fine of not more than $5,000.

EFFECTIVE DATE: May 10, 2000.

FOR FURTHER INFORMATION CONTACT: Jo Ann Williams, Office of General Counsel, 1000 Independence Avenue, SW., Washington, DC 20585, (202) 586-6975, or M.M. McKnight, Office of Chief Counsel, Idaho Operations Office, 850 Energy Drive Place, Idaho Falls, Idaho 83401, (208) 526-0275.

SUPPLEMENTARY INFORMATION: The Department of Energy (DOE), successor agency to the Atomic Energy Commission (AEC), is authorized, pursuant to § 229 of the Atomic Energy Act of 1954, as amended (42 U.S.C. 2278a), and § 104 of the Energy Reorganization Act of 1974 (42 U.S.C. 5814), as implemented by 10 CFR Part 860, published in the Federal Register on September 14, 1993 (58 FR 47984-47985), and § 301 of the Department of Energy Organization Act (42 U.S.C. 7151), to prohibit unauthorized entry and the unauthorized introduction of weapons or dangerous materials into or upon any DOE facility, installation or real property. By notices dated August 5, 1988, (53 FR 29512), January 23, 1987 (52 FR 2580), and November 1, 1983 (48 FR 50390), DOE prohibited unauthorized entry into or upon the Idaho National Engineering Laboratory (now the Idaho National Engineering and Environmental Laboratory, or INEEL), and various DOE and contractor occupied facilities, including the Willow Creek Building and the DOE Headquarters Building. This notice includes DOE Vehicles and Bus Parking Facilities located in Idaho Falls, Arco, on Highway 20, Bonneville County, Blackfoot, Mackay, Shelley, Rexburg, Rigby, and Pocatello, Idaho.

Since the last published notice on August 5, 1988, DOE has leased new facilities, and terminated its use of other facilities. For example, DOE-ID now occupies two buildings for its Idaho Operations Office Headquarters, known as ID North and ID South. In addition to other facilities listed below, DOE-ID's management and operating contractor currently occupies a relatively new building, the Energy Research Office Building, which heretofore has not been designated an Off-Limits Area.

The property descriptions and names of some facilities and property holdings have also changed, or contained errors when originally published. Today's notice reflects these additions, corrections, and modifications. Accordingly, the DOE prohibits the unauthorized entry and the unauthorized introduction of weapons or dangerous materials, as provided in §§ 860.3 and 860.4 into and upon these Idaho Operations Office sites. The sites referred to above have previously been designated as Off-Limits Areas, and this notice modifies or adds to those Off-Limits Areas. Descriptions of the sites being designated (or redesignated) at this time are as follows:

1. Technical Support Annex

1580 Sawtelle Street, Idaho Falls (EG&G Office TSA): Lot 2, Block 3, Hatch Grandview Subdivision, Division No. 3, to the City of Idaho Falls, County of Bonneville, State of Idaho, according to the recorded plat thereof.

2. Technical Support Building

1520 Sawtelle Street, Idaho Falls (EG&G Office TSB): Lot 1, Block 3, Hatch Grandview Subdivision, Division No. 3, to the City of Idaho Falls, County of Bonneville, State of Idaho, according to the recorded plat thereof.

3. Energy Research Office Building

2525 Fremont Avenue, Idaho Falls (Parking Lot and Office Building): Lots 5 & 7, Block 1, Boyer Addition, Division No. 1 First Amended, to the City of Idaho Falls, County of Bonneville, State of Idaho, according to the recorded plat thereof.

4. ID—North Building

1 Energy Drive, Idaho Falls: [Actual property address is 850 ENERGY DRIVE (Energy Inc.)]: Lot 1, Block 1, Energy Plaza, an addition to the City of Idaho Falls, County of Bonneville, State of Idaho, according to the recorded plat thereof. If the Parking Lot directly across the street to the South from Energy Inc. is also being used, the legal description for that property is: Lot 1, Block 2, Energy Plaza, an addition to the City of Idaho Falls, County of Bonneville, State of Idaho, according to the recorded plat thereof.

5. ID—South Building

785 Doe Place, Idaho Falls [Actual property address is 708 DOE Place (DOE Office)]; Lot 1 Block 1, D.O.E. Addition to the City of Idaho Falls, County of Bonneville, State of Idaho according to the recorded plat thereof.

6. May Street North Building

369 May Street, Idaho Falls (Litco Therman Science): Lots 41 & 42, Block 12, Capitol Hill Addition, to the City of Idaho Falls, County of Bonneville, State of Idaho, according to the recorded plat thereof.

7. May Street South Building

410 May Street, Idaho Falls (DOE): Lots 19, 20, 21 & 22, Capitol Hill Addition, to the City of Idaho Falls, County of Bonneville, State of Idaho, according to the recorded plat thereof.

8. Willow Creek Building

1955 Fremont Avenue Idaho Falls (Willow Creek Building): Lot 1, Block 1, Keefer Office Park Addition, to the City of Idaho Falls, County of Bonneville, State of Idaho, according to the recorded plat thereof.

9. University Place

1776 Science Center Drive, Idaho Falls (University Place): Government Lots 11 and 12, Section 12, Township 2 North, Range 37, East of the Boise Meridian, Bonneville County, Idaho, EXCEPTING THEREFROM: Beginning at a point on the East bank of the Snake River which bears S.31 degrees 12′43″ W. 771.32 feet from the Center of Section 12, Township 2 North, Range 37 East of the Boise Meridian; running thence S.89 degrees 52′ 00″ E. 101.59 feet; thence N.10 degrees 01′ 12″ W. 48.69 feet; thence N.19 degrees 09′04″ W. 34.02 feet; thence N.24 degrees 18′ 12″ E 72.29 feet; thence N.05 degrees 43′ 14″ W. 50.38 feet; thence N.03 degrees 30′22″ E. 77.80 feet; thence S.86 degrees 35′ 11″ E. 28.53 feet; thence N.03 degrees 34′ 41″ E. 113.18 feet; thence N.03 degrees 41′ 10″ W. 111.80 feet; thence N.07 degrees 17′ 24″ W. 126.51 feet; thence N.05 degrees 14′36″ W. 169.74 feet; thence N.11 degrees 21′28″ E. 74.42 feet; thence N.01 degrees 38′49″ W. 118.68 feet; thence N.00 degrees 23′55″ E. 131.89 feet; thence N.34 degrees 04′37″ E 66.30 feet; thence N.06 degrees 03′04″ E. 116.72; thence N.15 degrees 30′06″ W. 47.58 feet; thence N.62 degrees 58′40″ W. 107.67 feet to a point on the East bank of the Snake River; thence the following 14 courses along said East bank: (1) S.25 degrees 12′33″ W. 31.66 feet; (2) S. 15 degrees 30′06″ E. 77.32 feet; (3) S.06 degrees 03′04″ W. 72.73 feet; (4) S.34 degrees 04′37″ W. 71.61 feet; (5) S.00 degrees 23′55″ W. 163.94 feet; (6) S.01 degrees 38′49″ E 109.07 feet; (7) S.11 degrees 21′28″ W. 77.61 feet; (8) S.05 degrees 14′36″ E. 186.12 feet; (9) S.07 degrees 17′24″ E 125.15 feet; (10) S.03 degrees 41′10″ E. 102.31 feet; (11) S.03 degrees 34′41″ W. 162.50 feet; (12) S.24 degrees 18′12″ W. 151.21 feet; (13) S.19 degrees 09′04″ E. 65.88 feet; & (14) S.10 degrees 01′12″ E. 22.80 feet to the Point of Beginning.

10. North Holmes Complex

1570 N. Holmes Avenue, Idaho Falls [Actual property address is 1445 Northgate Mile], Lot 2, Block 1, Fred Meyer-Country Club Mall Subdivision to the City of Idaho Falls, County of Bonneville, State of Idaho, according to the recorded plat thereof.

11. Idaho Falls Bus Lot & Dispatch Building

1345 Chaffin Lane, Idaho Falls [Actual property address is 1345 N. Woodruff Avenue (INEL Bus Station)]: The South 160.41 feet of Lot 8, and all of Lots 9 through 13, Block 1, Chaffin Addition, Division No. 2, to the City of Idaho Falls, County of Bonneville, State of Idaho, according to the recorded plat thereof.

12. North Holmes Laboratory

1405 Northgate Mile, Idaho Falls (EG&G Lab): Beginning at a point that is S.0 degrees 25′00″ W. along the section line 1024.1 feet and S.89 degrees 53′00″ E. 33.72 feet from the Northwest corner of Section 17, Township 2 North, Range 38, East of the Boise Meridian, Bonneville County, Idaho, and being on the East right-of-way line of Lewisville Highway, 40.0 feet from the centerline of said highway; thence S.89 degrees 53′00″ E. 471.0 feet; thence N.0 degrees 13′30″ E. 186.50 feet; thence N.89 degrees 53′00″ W. 471.0 feet to the East right-of-way line of Lewisville Highway; thence S.0 degrees 13′30″ W. 186.50 feet to the Point of Beginning. AND ALSO: Beginning at a point on the East line of Holmes Avenue that is S.0 degrees 25′00″ W. 837.64 feet along the City monumented section line and S.89 degrees 53′00″ E. 33.08 feet from the Northwest corner of Section 17, Township 2 North, Range 38, East of the Boise Meridian, Bonneville County, Idaho, said point of beginning being the Northwest corner of the property described by Instrument No. 739201, as recorded in the Bonneville County Recorder's Office, and running thence S.89 degrees 53′00″ E. 471.0 feet to the Northeast corner of said property; thence N.0 degrees 13′30″ E. 1.13 feet; thence N.89 degrees 22′42″ W. 260.76 feet; thence S.89 degrees 10′55″ W. 210.29 feet to the Point of Beginning.

13. North Yellowstone Laboratory

1988 N. Yellowstone, Idaho Falls [Actual property address is 1980 N. Yellowstone Hwy (EG&G Office)]: Lot 1, Block 1, O'Dell Plaza, Division No. 1, to the City of Idaho Falls, County of Bonneville, State of Idaho, according to the recorded plat thereof.

14. Woodruff Avenue Warehouse

1965 N. Woodruff Avenue, Idaho Falls [Actual property address is 2010 N. Woodruff Avenue (Marshall's Tile & Supply)]: Lot 7, Block 4, Hodson Addition, First Amended, to the County of Bonneville, State of Idaho, according to the recorded plat thereof.

15. Idaho Innovation Center/Bonneville County Technology Center

2300 N. Yellowstone Highway, Idaho Falls (Bonneville County Parcels): Beginning at a point on the Southerly right-of-way line of U.S. Highway No. 191 that is S.0 degrees 16′17″ W. 661.51 feet along the section line and N.89 degrees 43′43″ W. 541.92 feet from the East Quarter Corner of Section 8, Township 2 North, Range 38, East of the Boise Meridian, Bonneville County, Idaho, said point of beginning being a point on a curve with a radius of 11399.20 and a tangent that bears S.55 degrees 07′29″ W.; thence to the left along said curve 278.44 feet through a central angle of 2 degrees 13′44″; thence S.45 degrees 43′51″ E. 190.28 feet; thence S.33 degrees 51′01″ E. 65.69 feet to a point of curve with a radius of 89.98 feet; thence to the left along said curve 100.39 feet through a central angle of 63 degrees 55′20″; thence N. 61 degrees 35′32″ E. 136.25 feet parallel with and 1.6 feet perpendicular from an existing building wall; thence N. 35 degrees 59′23″ E. 56.44 feet; thence N.33 degrees 17′20″ W. 336.50 feet to the Point of Beginning. AND ALSO: Beginning at a point on the Southerly right-of-way line of U.S. Highway No. 191, that is S.0 degrees 16′17″ W. 567.49 feet along the section line and N.89 degrees 43′43″ W. 406.29 feet from the East Quarter Corner of Section 8, Township 2 North, Range 38, East of the Boise Meridian, Bonneville County, Idaho, said point of beginning being a point on a curve with a radius of 11399.20 feet and a tangent that bears S.53 degrees 43′31″ W.; thence to the left along said curve 165.04 feet through a central angle of 0 degrees 49′46″; thence S.33 degrees 17′20″ E. 336.50 feet; thence N.35 degrees 59′23″ E. 158.93 feet; thence N.1 degrees 55′02″ W. 31.41 feet to the Southeast corner of an existing building; thence N.33 degrees 17′20″ W. 256.82 feet along the East wall of said building extended, to the Point of Beginning.

16. Lincoln Road Storage

910 Lincoln Road, Idaho Falls (Schwendiman Wholesale): Beginning a point that is N.89 degrees 55′00″ E. 196.2 feet from the Northwest corner of the Northeast Quarter of Section 17, Township 2 North, Range 38, East of the Boise Meridian, Bonneville County Idaho; and running thence N.89 degrees 55′00″ E along the section line, 100.0 feet; thence South 536.05 feet to the North line of Bel-Aire Addition to the City of Idaho Falls; thence Westerly along the North line of said addition 100.02 feet; thence North 536.9 feet to the North line of said Section 17 to the Point of Beginning. LESS the South 47 feet thereof. AND ALSO LESS: Beginning at a point that is N.89 degrees 55′00″ E 196.2 feet from the Northwest corner of the Northeast Quarter of said Section 17; thence South 28.48 feet; thence S.89 degrees 22′06″ E. 100.01 feet; thence North 29.73 feet to the North line of Section 17; thence S.89 degrees 55′00″ W. 100.0 feet to the Point of Beginning. AND ALSO LESS that certain property conveyed to the City of Idaho Falls by Right-of-Way Deed recorded as Instrument No. 707336, Deed Records of Bonneville County, Idaho.

17. North Boulevard Annex

2095 N. Boulevard, Idaho Falls [Actual property address is 2251 N. Boulevard (USA)]: Lot 1, Block 1, Marshall Research Park, Division No. 1, to the City of Idaho Falls, County of Bonneville, State of Idaho, according to the recorded plat thereof. AND ALSO, Lots 2 & 3, Marshall Research Park, Division No. 2, to the City of Idaho Falls, County of Bonneville, State of Idaho, according to the recorded plat thereof.

18. Parking Lot Located at US 20 and Shelley New Sweden Road

A parcel of land situated in the NW¼ NW¼, Section 21, Township 2 North, Range 37 East, Boise Meridian, Bonneville County, Idaho, more particularly described as follows: Commencing at the northwest corner of said northwest quarter of the northwest quarter (section corner, CP&F Instrument No. 944377); thence south 88 degrees 30′49″ east (of record as EAST), 40.78 feet, along the north boundary of said NW¼ NW¼ and along the southerly right of way of US Hwy-20, to the Point of Beginning; thence continuing south 88 degrees 30′49″ east, a distance of 299.80 feet, along said north boundary and said right of way of US Hwy-20; thence south 84 degrees 39′51″ east, a distance of 193.06 ft., along said right of way; thence 58.76 feet along the arc of a 25.00 foot radius curve right, said curve having a chord bearing south 17 degrees 19′56″ east, and a distance of 46.14 feet; thence south 50 degrees 00′00″ west, a distance of 304.50 feet; thence a distance of 351.58 feet along the arc of a 987.11 foot radius curve left, said curve having a chord bearing south 39 degrees 47′47″ west, a distance of 349.73 feet; thence a distance of 79.16 feet along the arc of a 30.00 foot radius curve right, said curve having a chord bearing north 74 degrees 49′06″ west, a distance of 58.11 feet; thence north 00 degrees 46′14″ east (of record as north 00 degrees 16′51″ east), a distance of 519.08 feet, parallel with the centerline of the existing Shelley New Sweden Road, to the Point of Beginning. Contains 3.424 acres, more or less.

19. North Bethesda Office Park/Rockville, Md

Fee Simple Estate as to Parcel 1:

Being part of Lot 16, Higgins Estate, as shown and recorded in Plat Book 70 at Plat 6551 among the Land Records of Montgomery County, Maryland, and

Beginning for the same at a point of the easterly side of Woodglen Drive (as now dedicated 85 feet wide), said point being the southwest corner of said Lot 16, thence with part of said easterly side

(1) North 03 Degrees 53′27″ West 398.72 feet to the beginning point from Investex Management Corporation to Montgomery County, Maryland for the widening of Wall Lane and recorded in Liber 6295 at Folio 309 among said land records, thence with the southerly side of said Wall Lane and the 5th and 4th lines reversed, the two following lines;

(2) North 71 Degrees 00′04″ East 12.94 feet, thence;

(3) North 88 Degrees 57′56″ East 265.00 feet to intersect the common dividing line of said Lot 16 and Lot 15, Higgins Estate, as shown and recorded in Plat Book 69 at Plat 6530 among said land records, thence leaving Wall Lane and with the common lines of Lots 15 and 16 the two following lines;

(4) South 19 Degrees 32′26″ East 153.85 feet, thence;

(5) North 89 Degrees 00′49″ East 142.19 feet to the westerly side of Wisconsin Avenue (Rockville Pike) Maryland Route No. 355, thence with said westerly side the six following lanes;

(6) South 19 Degrees 32′26″ East 186.69 feet, thence with an arc of a curve to the left whose radius is 22,978.32 feet an arc distance of 18.40 feet and a chord bearing distance of;

(7) South 19 Degrees 33′48″ East 18.40 feet, thence;

(8) South 70 Degrees 22′34″ West 22.00 feet, thence;

(9) South 19 Degrees 37′26″ East 30.00 feet, thence;

(10) North 70 Degrees 22′34″ East 22.00 feet, thence with an arc of a curve to the left whose radius is 22,978.32 feet and arc distance of 28.86 feet and a cord bearing and distance of;

(11) South 19 Degrees 41′52″ East 28.86 feet to a point in the southeast corner of said Lot 16, thence leaving said westerly side of Wisconsin Avenue wand with the southerly outline of said Lot 16;

(12) 88 Degrees 19′33″ West 532.40 feet to the point of beginning, containing 3.87544 acres.

20. Mackay Bus Lot

Lots 22, 23 and 24, Block 10, City of Mackay, Idaho Original Townsite, according to the official plat thereof on file with the Custer County, Idaho, Recorder.

21. Rigby Bus Lot

Land situated in Jefferson County, described below as: Commencing at a point 2 rods North of the Southeast corner of the Southeast quarter of Section Thirteen (13) in Township 4 North Range 38 East Boise Meridian, and running thence West 500 feet, thence North 200 feet, thence East 470 feet, thence North 200 feet, thence East 30 feet; thence South 400 feet to the place of beginning.

22. Blackfoot Bus Lot

A parcel of land situated in Bingham County, Idaho, being a portion of the SW¼ NW¼ of Section 33, Township 2 South, Range 35 East, Boise Meridian, described as follows, to-wit:

Commencing at the Southwest corner of the SW¼ NW¼ of Section 33, Township 2 South, Range 35 East, Boise Meridian; thence South 89 degrees 19′47″ East along the South line of said SW¼ NW¼, a distance of 30.0 feet, more or less, to a point in the Easterly right of way line of existing Groveland Road; thence North 0 degrees 23′07″ East (shown of record to be North) along said existing Easterly right of way line 429.75 feet to the Real Point of Beginning; thence East 435.6 feet; thence North 220.0 feet; thence West 435.0 feet, more or less, to a point in said existing Easterly right of way line; thence Southerly along said existing Easterly right of way line 220.0 feet, more or less, to the REAL POINT OF BEGINNING.

The area above described contains approximately 2.20 acres.

23. Pocatello Bus Lot & Office Building

A portion of Section 22, Township 6 South, Range 34 East, Boise Meridian, BANNOCK COUNTY, IDAHO described as follows: The South ½ West ½ West ½ Southeast ¼ Southeast ¼, EXCEPT a parcel of land deeded to State of Idaho by Instrument No. 315116 on April 3, 1956, described as follows: Commencing at South west corner of Southeast ¼ Southeast ¼ of said Section 22; thence North along West line of said Southeast ¼ Southeast ¼ 660.0 feet to the True Point of Beginning; thence South 89 degrees 51′ East 330.65 feet to the East line of said South ½ West ½ West ½ Southeast ¼ Southeast ¼; thence South 0 degrees 10′ 30″ West, 477.4 feet; thence North 38 degrees 31′West 525.9 feet, more or less, to a point in West line of said South ½ West ½ West ½ Southeast ¼ Southeast ¼; thence North 0 degrees 10′30″ East 64.5 feet to True Point of Beginning.

24. INEEL Research Center (IRC)—

2351 North Boulevard: Lot 1 Block 1 Marshall Research Park, Lot 2 Block 2 Marshall Research Park, Lot 3 Block 2 Marshall Research Park.

25. INEEL Supercomputing Center (ISC)

1155 Foote Drive: Lot 6 Block 2 Hatch Grandview Division No. 3.

26. INEEL Supercomputing Center (ISC) Parking Lot

1155 Foote Drive: Beginning at the Northeast corner of Lot 1A, Block 2, in Division 4 of the Idaho Falls Airport Industrial Park, City of Idaho Falls, Bonneville County; thence proceeding west along the north property line a distance of approximately 180 feet, thence south in a direction parallel to the west property line until intersection with the south property line is reached, thence east along the south property line to the southeast corner, thence north to the point of beginning, containing approximately .83 acres.

27. Jackson Outreach Office, Jackson, Wyoming (310 E. Pearl Street)

The West 50 feet of Lot 1 of Block 3 of the Van Vleck Plat an Addition to the town of Jackson, Teton County, Wyoming, according to that plat recorded April 24, 1929 as Plat No. 116.

28. Idaho National Engineering and Environmental Laboratory

Commence at a point which is the SW. corner of sec. 31, T. 2N., R. 28E.; Thence N. approximately 11 miles to the NW. corner of sec. 7, T. 3N., R. 28E.; Thence E. approximately 1 mile to the NE. corner sec. 7, T. 3N., R, 28E.; Thence N. approximately one-fourth mile; Thence E. approximately one-fourth mile; Thence N. approximately one-fourth mile; Thence E. approximately one-fourth mile; Thence N. approximately one-fourth mile; Thence E. approximately one-half mile; Thence N. approximately one-fourth mile; to the NW. corner sec. 4, T. 3N., R. 28E.; Thence E. approximately one-half mile; Thence N. approximately one-fourth mile; Thence E. approximately one-half mile; Thence N. approximately one-fourth mile; Thence E. approximately one-fourth mile; Thence N. approximately one-fourth mile; Thence E. approximately one-half mile; Thence N. approximately one-fourth mile; Thence E. approximately one-half mile; Thence N. approximately one-fourth mile; Thence E. approximately one-half mile; Thence N. approximately one-fourth mile; Thence E. approximately one-fourth mile; Thence N. approximately one-fourth mile; Thence E. approximately one-fourth mile; Thence N. approximately one-fourth mile; Thence E. approximately one-half mile; Thence N. approximately one-fourth mile; Thence E. approximately one-fourth mile; Thence N. approximately one-fourth mile; Thence E. approximately one-fourth mile; Thence N. approximately one-fourth mile; Thence E. approximately one-fourth mile; Thence N. approximately one-half mile; Thence E. approximately one-fourth mile; Thence N. approximately one-half mile; Thence E. approximately one-fourth mile; Thence N. approximately one-half mile; Thence E. approximately one-fourth mile; Thence N. approximately one-half mile; Thence E. approximately one-fourth mile; Thence N. approximately one mile; Thence E. approximately one-fourth mile; Thence N. approximately 1¼ miles; Thence E. approximately one-fourth mile; to the NE. corner sec. 32, T. 5N., R. 29E.; Thence N. approximately 1 mile to NW. corner, sec. 28, T. 5N., R. 29E.; Thence E. approximately one-fourth mile; Thence N. approximately 1 mile; Thence E. approximately 3¾ miles to the NE. corner, sec. 24, T. 5N., R. 29E.; Thence N. approximately 1½ miles; Thence E. approximately 2 miles; Thence N. approximately one-half mile to the NW. corner, sec. 9, T. 5N., R. 30E.; Thence E. approximately 1 mile to the NE. corner, sec. 9, T. 5N., R. 30E.; Thence N. approximately 7 miles to the NW. corner, sec. 3, T. 6N., R. 30E.; Thence E. approximately 2 miles to the NE. corner, sec. 2, T. 6N., R. 30E.; Thence N. approximately 9 miles to NW. corner, sec. 24, T. 8N., R. 30E.; Thence E. approximately 10½ miles; Thence S. approximately 5 miles; Thence E. approximately one-half mile to the NE. corner, sec. 18, T. 7N., R. 33E.; Thence S. approximately one-half mile; Thence E. approximately 1 mile; Thence S. approximately one-half mile to the SE. corner, sec. 17, T. 7N., R. 33E.; Thence E. approximately 1 mile to the NE. corner, sec. 21, T. 7N., R. 33E.; Thence S. approximately 2 miles to the SW. corner, sec. 28, T. 7N., R. 33E.; Thence W. approximately one-half mile; Thence S. approximately one-half mile; Thence W. approximately one-fourth mile; Thence S. approximately 2½ miles; Thence E. approximately three-fourths mile; Thence S. approximately 1 mile; Thence E. approximately 2 miles; Thence N. approximately 1 mile; Thence E. approximately three-fourths mile; Thence S. approximately one-fourth mile; Thence E. approximately one-fourth mile; Thence SE. parallel to Idaho Highway No. 28 approximately 1¼ miles to the SE. corner of sec. 18, T. 6N., R. 34E.; Thence W. approximately 2 miles; Thence S. approximately 1 mile; Thence E. approximately 1 mile; Thence S. approximately 2 miles; Thence E. approximately 1 mile; Thence S. approximately 1 mile; Thence E. approximately 1¾ mile; Thence S. approximately 9½ mile; Thence W. approximately one-fourth mile; Thence S. approximately 4 mile; Thence W. approximately one-half mile; Thence S. approximately one-fourth mile; Thence W. approximately one-fourth mile to the SW. corner, sec. 16, T. 3N., R. 34E.; Thence S. approximately 1 mile to the SE. corner, sec. 20, T. 3N., R. 34E.; Thence W. approximately one-half mile; Thence S. approximately three-fourths mile; Thence W. approximately 2¾ mile; Thence S. approximately one-eighth mile; Thence in a westerly direction approximately 4¾ miles; parallel to U.S. Highway No. 20 to the point of intersection with the W. boundary line of sec. 31, T. 3N., R. 33E.; Thence S. approximately 7 mile to the SE. corner sec. 36, T. 2N., R. 32E.; Thence W. approximately 8¼ mile; Thence N. approximately one-half mile; Thence W. approximately one-fourth mile; Thence S. approximately one-fourth mile; Thence W. approximately one-fourth mile; Thence S. approximately one-fourth mile; Thence W. approximately 1½ miles; Thence N. approximately one-eighth mile; Thence W. approximately one-fourth mile; Thence S. approximately one-eighth mile; Thence W. approximately 16½ miles to the point of beginning at the SW. corner, sec. 31, T. 2N., R. 28E.

Notices stating the pertinent prohibitions of §§ 860.3 and 860.4 and the penalties of 10 CFR 860.5 are being posted at all entrances of the above-referenced areas and at intervals along their perimeters, as provided in 10 CFR 860.6.

Dated at Washington, DC, this 4th day of May, 2000.
Joseph S. Mahaley,
Director, Office of Security Affairs.

[FR Doc. 00-11727 Filed 5-9-00; 8:45 am]

BILLING CODE 6450-01-P